DEPARTMENT OF AGRICULTURE

Forest Service

DEPARTMENT OF THE INTERIOR

Bureau of Land Management

[OR-930-6310-PN-LITU; HAG 06-0114]

Notice of Availability of the Draft Supplement to the 2004 Final Environmental Impact Statement To Remove or Modify the Survey and Manage Mitigation Measure Standards and Guidelines, Oregon, Washington, and California

AGENCIES: USDA, Forest Service; DOI, Bureau of Land Management.

ACTION: Notice of availability.

SUMMARY: In accordance with the National Environmental Policy Act of 1969 (NEPA, 42 U.S.C. 4321 et seq.), the Federal Land Policy and Management Act of 1976 (FLPMA, 43 U.S.C. 1701 et seq.), and the National Forest Management Act of 1976 (NFMA, 16 U.S.C. 1600-1614 et seq.), the USDA Forest Service and Bureau of Land Management (collectively the Agencies) have prepared a Draft Supplement to the 2004 Final Environmental Impact Statement To Remove or Modify the Survey and Manage Mitigation Measure Standards and Guidelines (Draft Supplement). The Final Environmental Impact Statement To Remove or Modify the Survey and Manage Mitigation Measure Standards and Guidelines (2004 FSEIS), dated January 2004, examined the environmental effects of a proposal by the Agencies to amend 28 land and resource management plans on National Forests and Bureau of Land Management Districts within the range of the northern spotted owl in western Oregon, western Washington, and northern California.

The Draft Supplement is available for public review.

DATES: Written comments on the Draft Supplement will be accepted for 90 days following the date the Environmental Protection Agency publishes the Notice of Availability of the Draft Supplement in the Federal Register. The Agencies ask that those submitting comments on the Draft Supplement make these comments as specific as possible with reference to page numbers and chapters of the document.

ADDRESSES: If you wish to comment, you may submit your written comments to Survey and Manage SEIS Team, P.O. Box 2965, Portland, Oregon 97208, or via e-mail to ORSMSEIS@blm.gov.

FOR FURTHER INFORMATION CONTACT: Michael Haske, Chief, Branch of Forest Resources and Special Status Species, Bureau of Land Management, P.O. Box 2965, Portland, Oregon 97208, telephone (503) 808-6038 or Alan Christensen, Group Leader, Wildlife, Fisheries, Watershed, Soils and Range, USDA Forest Service, P.O. Box 3623, Portland, Oregon 97208, telephone (503) 808-2922.

Requests to receive copies of the Draft Supplement should be sent to the address listed above. Alternately, the Draft Supplement is available on the Internet at http://www.reo.gov/s-m2006. Copies are also available for inspection at USDA Forest Service and Bureau of Land Management offices in western Washington, western Oregon and northern California.

SUPPLEMENTARY INFORMATION: In January 2004, the Agencies approved the 2004 FSEIS analyzing a proposal to amend 28 land and resource management plans by removing the Survey and Manage Standards and Guidelines, to conserve rare and little known species, and reduce cost and effort and allow for achievement of healthy forests and timber outputs. The Agencies released a Record of Decision adopting the proposal in March, 2004. In August, 2005 the U.S. District Court of the Western District of Washington found the 2004 FSEIS failed to: (1) “* * * analyze potential impacts to Survey and Manage species if they are not added to or are removed from the USDA Forest Service's and BLM's respective programs for special status species;” (2) “* * * provide a thorough analysis of their assumption that the late-successional reserves would adequately protect species that the Survey and Manage standard was introduced to protect, particularly in light of their previous positions in earlier environmental impact statements;” and (3) “* * * disclose and analyze flaws in their methodology for calculating the acreage in need of hazardous fuel treatments. Part of the cost analysis was similarly flawed because it relied on the acreage in need of hazardous fuel treatments in calculating the cost of the Survey and Manage standard.” The Draft Supplement provides the additional information and analysis to address the deficiencies noted by the court, and provides and analyzes new information available since publication of the 2004 FSEIS.

Following public comments, the Agencies will prepare a Final Supplement. No sooner than 30 days following release of the Final Supplement, the Agencies will prepare a new Record of Decision. A decision to select one of the action alternatives would amend the management direction in 28 land and resource management plans in the Northwest Forest Plan area. Comments received in response to this solicitation, including names and addresses, will be considered part of the public record on this proposal and will be available for public review during regular business hours. Comments, including names and addresses, may be published as part of the Final Supplement. If you wish to withhold your name or address from public review, or from disclosure under the Freedom of Information Act (FOIA), you must state this prominently at the beginning of your written comments. Such requests will be honored to the extent allowed by law. Additionally, pursuant to 7 CFR 1.27(d), any person may request that submissions be withheld from the public record by showing how the FOIA permits such confidentiality. Persons requesting such confidentiality should be aware that, under the FOIA, confidentiality may be granted in only limited circumstances, such as to protect trade secrets. The requester will be informed of the Agencies' decision regarding the request for confidentiality. Where the request is denied, the comments will be returned to the requester and the requester will be notified that the comments may be resubmitted with or without name and address. Comments submitted anonymously will be accepted and considered, however, anonymous comments do not create standing or a record of participation. All submissions from organizations and businesses, and from individuals identifying themselves as representatives or officials of organizations or businesses, will be available for public inspection in their entirety.

The Agencies believe it is important to give reviewers notice of several court rulings related to public participation in the environmental review process. Reviewers should structure their participation so that it is meaningful to alert the Agencies of their positions and contentions [Vermont Yankee Nuclear Power Corp. v. NRDC, 435 U.S. 519, 553 (1978)]. Also, environmental objections that could be raised at the Draft Supplement stage, but are not raised until after completion of the Final Supplement, may be waived or dismissed by the courts [City of Angoon v. Hodel, 803 F.2d 1016, 1022 (9th cir. 1986) and Wisconsin Heritages, Inc. v. Harris, 490 F. Supp. 1334, 1338 (E.D. Wis. 1980)]. Because of these court rulings, it is important that those interested in this proposed action provide comments by the close of the 90-day comment period, so that the Agencies can meaningfully consider and respond to them in the Final Supplement.

The responsible official for lands administered by the USDA Forest Service will be the Secretary of Agriculture. The responsible official for public lands administered by the Bureau of Land Management will be the Secretary of the Interior.

No public hearings or meetings are planned.

Dated: June 30, 2006.
Cynthia Ellis,
Regulatory Affairs, Bureau of Land Management, Washington, DC.
Dated: June 30, 2006.
Andria Weeks,
Regulatory Liaison Officer, United States Forest Service, Washington, DC.

[FR Doc. E6-10541 Filed 7-6-06; 8:45 am]

BILLING CODE 4310-33-P